DEPARTMENT OF COMMERCE

International Trade Administration

Announcement of Performance Review Board Members

AGENCY: International Trade Administration, Department of Commerce.

ACTION: Notice.

SUMMARY: 5 CFR 430.310 requires agencies to publish notice of Performance Review Board appointees in the Federal Register before their service begins. This notice announces the names of new and existing members of the International Trade Administration's Performance Review Board.

FOR FURTHER INFORMATION CONTACT: Darlene Haywood, International Trade Administration, Office of Human Resources Management, at (202) 482-2850, Room 7060, Washington, DC 20230.

SUPPLEMENTARY INFORMATION: The purpose of the Performance Review Board is to review and make recommendations to the appointing authority on performance management issues such as appraisals, pay adjustments, bonuses, and Presidential Rank Awards for members of the Senior Executive Service. The Deputy Under Secretary, International Trade Administration, Timothy J. Hauser, has named the following members of the International Trade Administration Performance Review Board:

1. Linda Cheatham, Chief Financial Officer and Director of Administration (Chairperson).

2. Eric Stewart, Deputy Assistant Secretary for Europe (new).

3. Carlos Montoulieu, Director, Office of Environmental Technologies Industries (new).

4. Walter Bastian, Deputy Assistant Secretary for Western Hemisphere (new).

5. Nealton J. Burnham, Deputy Assistant Secretary for Domestic Operations (new).

6. Holly Kuga, Senior Director (new).

7. Eleanor Lewis, Chief Counsel for International Commerce, Department of Commerce (outside reviewer).

8. Darlene F. Haywood, Executive Secretary, ITA Office of Human Resources Management.

Dated: June 8, 2004.
Doris W. Brown,
Human Resources Officer.

[FR Doc. 04-13289 Filed 6-10-04; 8:45 am]

BILLING CODE 3510-25-M